PEACE CORPS

Proposed Collection Renewal

ACTION: 60-Day notice and request for comments.

SUMMARY: The Peace Corps will be submitting the following information collection request to the Office of Management and Budget (OMB) for extension, without change, of a currently approved information collection. In compliance with the Paperwork Reduction Act of 1995 (44 U.S.C. Chapter 35), the Peace Corps invites the general public to comment on the renewal of Correspondence Match Enrollment Form and Teacher Survey (OMB Control No. 0420-0513). This process is conducted in accordance with 5 CFR 1320.10.

DATES: Comments must be submitted on or before October 19, 2010.

ADDRESSES: Comments should be addressed to Denora Miller, FOIA Officer, Peace Corps, 1111 20th Street, NW., Washington, DC 20526. Denora Miller can be contacted by telephone at 202-692-1236 or e-mail at dmiller4@peacecorps.gov; mail to: ddunevant@peacecorps.gov. E-mail comments must be made in text and not in attachments.

FOR FURTHER INFORMATION CONTACT: Denora Miller, at Peace Corps address above.

SUPPLEMENTARY INFORMATION: Proposal to renew the following currently approved collection of information:

OMB Control Number: 0420-0513.

Title: Correspondence Match Enrollment Form and Teacher Survey.

Type of Review: Extension, without change, of a currently approved collection.

Respondents: Educators interested in promoting global education in the classroom.

Respondents Obligation to Reply: Voluntary.

Burden to the Public:

| Educator form | Teacher survey
a. Annual reporting burden | 1667 hours | 250 hours.
b. Estimated average burden response | 10 minutes | 15 minutes.
c. Frequency of response | Annually | Once.
d. Estimated number of likely respondents | 10,000 | 1,000.

General description of collection: The Peace Corps and Paul D. Coverdell World Wise Schools need this information officially to enroll educators in the Correspondence Match program and to provide relevant services to its constituency. The information is used to make suitable matches between the educators and currently serving Peace Corps Volunteers as well as assess programmatic functions.

Request for Comment: Peace Corps invites comments on whether the proposed collections of information are necessary for proper performance of the functions of the Peace Corps and the Paul D. Coverdell World Wise Schools, including whether the information will have practical use; the accuracy of the agency's estimate of the burden of the proposed collection of information, including the validity of the information to be collected; and, ways to minimize the burden of the collection of information on those who are to respond, including through the use of automated collection techniques, when appropriate, and other forms of information technology.

Dated: August 13, 2010.
Garry W. Stanberry,
Deputy Associate Director for Management.

[FR Doc. 2010-20639 Filed 8-19-10; 8:45 am]

BILLING CODE 6051-01-P